DEPARTMENT OF TRANSPORTATION

Office of the Secretary

Notice of Applications for Certificates of Public Convenience and Necessity and Foreign Air Carrier Permits Filed Under Subpart B (Formerly Subpart Q) During the Week Ending July 11, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0213.

Date Filed: July 8, 2008.

Due Date for Answers, Conforming Applications, or Motion to Modify Scope: July 29, 2008.

Description: Application of Jet2.com Limited (“Jet2.com”) requesting issuance of a foreign air carrier permit to the full extent authorized by the Air Transport Agreement between the United States and the European Community and the Member States of the European Community (the “US-EC Agreement”) to enable Jet2.com to engage in: (a) Foreign scheduled and charter air transportation of persons, property and mail from any point or points behind any Member State of the European Union, via any point or points in any Member State and via intermediate points to any point or points in the United States and beyond; (b) foreign scheduled and charter air transportation of persons, property and mail between any point or points in the United States and any point or points in any member of the European Common Aviation Area; (c) foreign scheduled and charter cargo air transportation between any point or points in the United States and any point or points; (d) other charters pursuant to prior approval; and (e) transportation authorized by any additional route rights made available to European Community carriers in the future (subject to the condition that, before Jet2.com commences any new service under this provision, it must provide the Department evidence that it holds a homeland license for that new service). Jet2.com also requests exemption authority to the extent necessary to enable it to hold out and provide the service described above pending issuance of a foreign air carrier permit and such additional or other relief as the Department may deem necessary or appropriate.

Renee V. Wright,
Program Manager, Docket Operations, Federal Register Liaison.

[FR Doc. E8-17454 Filed 7-29-08; 8:45 am]

BILLING CODE 4910-9X-P